DEPARTMENT OF AGRICULTURE

Commodity Credit Corporation

Notice of Funds Availability; Inviting Applications for Emerging Markets Program

Correction

In notice document 04-1453 beginning on page 3304 in the issue of Friday, January 23, 2004, make the following correction:

On page 3304, in the second column, in the first line, “genetic” should read “generic”.

[FR Doc. C4-1453 Filed 1-28-04; 8:45 am]

BILLING CODE 1505-01-D